DEPARTMENT OF HEALTH AND HUMAN SERVICES

Centers for Disease Control and Prevention

Request for Nominations of Candidates To Serve on the Board of Scientific Counselors, Coordinating Office for Terrorism Preparedness and Emergency Response (BSC, COTPER)

CDC is soliciting nominations for possible membership on the BSC, COTPER. This board provides advice and guidance to the Secretary, Department of Health and Human Services (HHS), the Director, CDC, and the Director, COTPER, concerning strategies and goals for the programs and research within the divisions; conducts peer-review of scientific programs; and monitors the overall strategic direction and focus of the divisions.

Nominations are being sought for individuals who have the expertise and qualifications necessary to contribute to the accomplishment of the board's objectives. Nominees will be selected by the Secretary, HHS, or designee, from authorities knowledgeable in the fields relevant to the issues addressed by the offices and divisions within the coordinating office and related disciplines, including: Medicine, epidemiology, laboratory science, informatics, behavioral science, social science, engineering, business, and crisis leadership. Members may be invited to serve for terms of up to four years. Consideration is given to representation from diverse geographic areas, both genders, ethnic and minority groups, and the disabled. Nominees must be U.S. citizens.

The following information must be submitted for each candidate: Name, affiliation, address, telephone number, e-mail address, and current curriculum vitae. Nominations should be accompanied by a letter of recommendation stating the qualifications of the nominee and must be postmarked by May 11, 2009 to: Matthew Jennings, BSC Coordinator, CDC, Coordinating Office for Terrorism Preparedness and Emergency Response, 1600 Clifton Road, NE., Mailstop D-44, Atlanta, Georgia 30333, Telephone (404) 639-7357.

The Director, Management Analysis and Services Office, has been delegated the authority to sign Federal Register notices pertaining to announcements of meetings and other committee management activities for both CDC and the Agency for Toxic Substances and Disease Registry.

Dated: April 17, 2009.
Elaine L. Baker,
Director, Management Analysis and Service Office, Centers for Disease Control and Prevention.

[FR Doc. E9-9331 Filed 4-22-09; 8:45 am]

BILLING CODE 4163-18-P